DEPARTMENT OF ENERGY

Federal Energy Regulatory Commission

Notice of Applications Ready for Environmental Analysis and Soliciting Comments, Recommendations, Terms and Conditions, and Prescriptions

August 29, 2001.

Take notice that the following hydroelectric applications have been filed with the Commission and are available for public inspection.

a. Type of Application: New Major License.

b. Project No.: 2031-046.

c. Date Filed: August 30, 2000.

d. Applicant: Springville City, Utah.

e. Names of Project: Bartholomew Hydroelectric Project.

f. Location: Northeast of Springville City, within Bartholomew Canyon and on Hobble Creek, in Utah County, Utah. The project is partially situated on federal lands within the Uinta National Forest.

g. Filed Pursuant to: Federal Power Act, 16 USC §§ 791(a)-825(r).

h. Applicant Contact: Matthew Cassel at Psomas Consultants, 2825 East Cottonwood Parkway, #120, Salt Lake City, Utah 84121 Telephone (801) 270-5777.

i. FERC Contact: Jim Haimes, james.haimes@ferc.fed.us (202) 219-2780.

j. Deadline for Filing Comments, Recommendations, Terms and Conditions, and Prescriptions: 60 days from the issuance date of this notice.

All documents (original and eight copies) should be filed with: David P. Boergers, Secretary, Federal Energy Regulatory Commission, 888 First Street, NE, Washington, DC 20426. Comments, protests and interventions may be filed electronically via the Internet in lieu of paper. See, 18 CFR 385.2001(a)(1)(iii) and the instructions on the Commission's web site under the “e-Filing” link.

The Commission's Rules of Practice and Procedure require all interveners filing documents with the Commission to serve a copy of that document on the official service list for the project. Further, if an intervener files comments or documents with the Commission relating to the merits of an issue that may affect the responsibilities of a particular resource agency, the intervener also must serve a copy of the document on that resource agency.

k. Status of Environmental Analysis: These applications have been accepted for filing and are ready for environmental analysis at this time.

l. Description of the Project: The project, which does not include a dam or reservoir, operates using relatively small quantities of water removed from underground springs or small creeks located at high elevations and then transported via buried penstocks to three powerhouses and a powerhouse addition having a combined installed capacity of 2,000 kilowatts (kW). The project produces an average of approximately 4,653,000 kilowatt-hours of energy per year, primarily during the high runoff season each spring. Flows used to generate electricity either are diverted to the licensee's water distribution system for domestic and industrial consumption or are released into Hobble Creek.

The project's generating facility at the highest elevation is Upper Bartholomew powerhouse. Constructed in 1992, it is a 25-foot-long by 17-foot-wide, partially buried, concrete structure containing one turbine with an hydraulic capacity of 10 cubic feet per second (cfs) and a 900-foot gross head that drives one 200-kW generator.

Downhill, at the south end of Bartholomew Canyon, is the project's original generating facility, Lower Bartholomew Powerhouse. Constructed in 1948, this 80-foot-long by 28-foot-wide, brick and masonry structure contains one turbine with an hydraulic capacity of 16 cfs and a 980-foot gross head. The turbine powers one 500-kW generator.

Constructed in 1987, Lower Bartholomew Powerhouse Annex is a brick and masonry addition to the original powerhouse containing one turbine having an hydraulic capacity of 28 cfs and a 980-foot gross head. The turbine drives one 1,000-kW generator.

The project facility at the lowest elevation is Hobble Creek powerhouse, located in the lower portion of Hobble Creek Canyon. Constructed in 1950, this 35-foot-long by 30-foot-wide, masonry structure contains two turbines having a combined hydraulic capacity of 38 cfs and a 135-foot gross head. These turbines drive one 300-kW generator.

The project also includes the following two transmission facilities: (1) a 5.9-mile-long line, which includes one 1-mile-long, underground segment and a 4.9-mile-long overhead segment, from Upper Bartholomew powerhouse to Hobble Creek powerhouse; and (2) a 6.9-mile-long, 12.47-kilovolt, underground cable from Lower Bartholomew powerhouse to Springville City's electric distribution system.

The City proposes to continue diverting water from underground springs in Bartholomew Canyon to generate hydropower and to obtain culinary quality water for the City's municipal water supply system. In addition, the City proposes to continue diverting flows from the left and right forks of Hobble Creek to generate electricity at its existing 300-kilowatt (kW) Hobble Creek powerhouse.

m. Locations of the Application: Copies of each of the application are available for inspection and reproduction at the Commission's Public Reference Room, located at 888 First Street, NE, Room 2A, Washington, D.C. 20246, or by calling (202) 208-1371. Copies of this filing are on file with the Commission and are available for public inspection. This filing may also be viewed on the web at http://www.ferc.gov using the “RIMS” link, select “Docket#” and follow the instructions (call 202-208-2222 for assistance).

n. Filing and Service of Responsive Documents—The Commission directs, pursuant to Section 4.34(b) of the Regulations (see Order No. 533 issued May 8, 1991, 56 FR 23108, May 20, 1991) that all comments, recommendations, terms and conditions, and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must: (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

David P. Boergers,
Secretary.

[FR Doc. 01-22231 Filed 9-4-01; 8:45 am]

BILLING CODE 6717-01-P